DEPARTMENT OF TRANSPORTATION

Federal Highway Administration

Notice of Availability of the Finding of No Significant Impact for the I-15; 24th Street Interchange Project in Utah and Final Federal Agency Actions

AGENCY: Federal Highway Administration (FHWA), Department of Transportation, Utah Department of Transportation (UDOT).

ACTION: Notice of availability and notice of limitations on claims for judicial review of actions by UDOT and other Federal agencies.

SUMMARY: The FHWA, on behalf of UDOT, is issuing this notice to announce the availability of the Finding of No Significant Impact (FONSI) for the Interstate 15 (I-15); 24th Street Interchange, in Ogden City, Weber County, Utah. In addition, this notice is being issued to announce actions taken by UDOT that are final Federal agency actions related to the project referenced above. Those actions grant licenses, permits and/or approvals for the project. The FONSI provides details on the Selected Alternative for the proposed improvements.

DATES: This decision became operative on November 26, 2024. By this notice, FHWA, on behalf of UDOT, is advising the public of final agency actions subject to 23 U.S.C. 139(l)(1). A claim seeking judicial review of the Federal agency actions on the highway project will be barred unless the claim is filed on or before May 9, 2025. If the Federal law that authorizes judicial review of a claim provides a time period of less than 150 days for filing such claim, then that shorter time period still applies.

FOR FURTHER INFORMATION CONTACT: Brandon Weston, Environmental Program Manager, UDOT Environmental Services, PO Box 143600, Salt Lake City, UT 84114; (801)-965-4603; email: brandonweston@utah.gov. UDOT's normal business hours are 8 a.m. to 5 p.m. (mountain time zone), Monday through Friday, except State and Federal holidays.

SUPPLEMENTARY INFORMATION: The environmental review, consultation, and other actions required by applicable Federal environmental laws for this action are being, or have been, carried out by UDOT pursuant to 23 U.S.C. 327 and a Memorandum of Understanding (MOU) dated May 26, 2022, and executed by FHWA and UDOT. Actions taken by UDOT on FHWA's behalf pursuant to 23 U.S.C. 327 constitute Federal agency actions for purposes of Federal law. Notice is hereby given that UDOT has taken final agency actions subject to 23 U.S.C. 139(l)(1) by issuing licenses, permits, and/or approvals for the I-15; 24th Street Interchange project in the State of Utah.

The project proposes to modify the local roadway network and serve local travel by replacing the existing partial Interstate 15 (I-15)/24th Street interchange with a fully directional single point urban interchange (SPUI). The existing on- and off-ramps at 24th Street would be removed, but the existing I-15 underpass would be retained to provide local access. The intersection at Pennsylvania Avenue and New Midland Drive in Ogden City would be converted to a signalized intersection. The purpose of the project is to improve modal interrelationships between the local road network, the interstate, the railroad, sidewalks, and bike routes; and also improve level of service and reduce vehicle queues at intersections within the study area.

These improvements were identified in the Environmental Assessment (EA) prepared for the project by UDOT as the Proposed Action. The project is identified in UDOT's adopted 2023-2028 State Transportation Improvement Program as project number 15683 with funding identified for right-of-way acquisition. The project is also included in the Wasatch Front Regional Council (WFRC) 2023-2050 Regional Transportation Plan approved in May 2024 (latest amendment August 2024) and the WFRC 2024-2029 Transportation Improvement Plan.

The actions by UDOT, and the laws under which such actions were taken, are described in the EA approved on March 12, 2024, and the FONSI (Finding of No Significant Impact for I-15; 24 Street Interchange; in Weber County, Utah) Project No. S-I15-8(158)343 approved on November 26, 2024, and other documents in the project records. The EA and FONSI are available for review by contacting UDOT at the address provided above. In addition, these documents can be viewed and downloaded from the project website at https://udotinput.utah.gov/24thstreetinterchange. This notice applies to the EA, the FONSI, the Section 4(f) determination, the NHPA Section 106 review, the Endangered Species Act determination, the noise review and noise abatement determination, and all other UDOT and federal agency decisions and other actions with respect to the project as of the issuance date of this notice and all laws under which such actions were taken, including but not limited to the following laws (including their implementing regulations):

1. General: National Environmental Policy Act [42 U.S.C. 4321-4370m-12]; Federal-Aid Highway Act [23 U.S.C. 109 and 23 U.S.C. 128]; 23 U.S.C. 139.

2. Air: Clean Air Act [42 U.S.C. 7401-7671(q)].

3. Land: Section 4(f) of the Department of Transportation Act of 1966 [23 U.S.C. 138 and 49 U.S.C. 303]; Landscaping and Scenic Enhancement (Wildflowers) [23 U.S.C. 319].

4. Wildlife: Endangered Species Act [16 U.S.C. 1531-1544], Fish and Wildlife Coordination Act [16 U.S.C. 661-667d]; Migratory Bird Treaty Act [16 U.S.C. 703-712]; Bald and Golden Eagle Protection Act [16 U.S.C. 668-668d].

5. Historic and Cultural Resources: National Historic Preservation Act of 1966, as amended [54 U.S.C. 300101-307108]; Archaeological Resources Protection Act of 1979 [16 U.S.C. 470aa-470mm]; Archeological and Historic Preservation Act [54 U.S.C. 312501-312508]; Native American Grave Protection and Repatriation Act [25 U.S.C. 3001-3013].

6. Social and Economic: Title VI of Civil Rights Act of 1964 [42 U.S.C. 2000d-2000d-7]; American Indian Religious Freedom Act [42 U.S.C. 1996]; Farmland Protection Policy Act [7 U.S.C. 4201-4209].

7. Wetlands and Water Resources: Clean Water Act [33 U.S.C. 1251-1389]; Coastal Zone Management Act [16 U.S.C. 1451-1465]; Land and Water Conservation Fund Act [54 U.S.C. 200301-200310]; Safe Drinking Water Act [42 U.S.C. 300(f)-300(j)(6)]; Rivers and Harbors Appropriation Act of 1899, as amended [33 U.S.C. 401-418]; Emergency Wetlands Resources Act [16 U.S.C. 3921, 3931]; Flood Disaster Protection Act [42 U.S.C. 4001-4128].

8. Hazardous Materials: Comprehensive Environmental Response, Compensation, and Liability Act [42 U.S.C. 9601-9675]; Superfund Amendments and Reauthorization Act of 1986 [42 U.S.C. 9671-9675]; Resource Conservation and Recovery Act [42 U.S.C. 6901-6992k].

9. Noise: Noise Control Act of 1972 [42 U.S.C. 4901-4918].

10. Executive Orders: E.O. 11990 Protection of Wetlands; E.O. 11988 Floodplain Management; E.O. 12898 Federal Actions to Address Environmental Justice in Minority Populations and Low-Income Populations; E.O. 11593 Protection and Enhancement of Cultural Resources; E.O. 13287 Preserve America; E.O. 13175 Consultation and Coordination with Indian Tribal Governments; E.O. 11514 Protection and Enhancement of Environmental Quality; E.O. 13112 Invasive Species; E.O. 13985 Advancing Racial Equity and Support for Underserved Communities Through the Federal Government; E.O. 13990 Protecting Public Health and the Environment and Restoring Science to Tackle the Climate Crisis; E.O. 14008 Tackling the Climate Crisis at Home and Abroad.

(Catalog of Federal Domestic Assistance Program Number 20.205, Highway Planning and Construction. The regulations implementing Executive Order 12372 regarding intergovernmental consultation on Federal programs and activities apply to this program.)

Authority: 23 U.S.C. 139 (l)(1).

Ivan Marrero,
Division Administrator, Federal Highway Administration, Salt Lake City, Utah.

[FR Doc. 2024-28986 Filed 12-9-24; 8:45 am]

BILLING CODE 4910-RY-P